DEPARTMENT OF THE TREASURY

Office of Foreign Assets Control

Designation of Three Individuals Pursuant to Executive Order 13441

AGENCY: Office of Foreign Assets Control, Treasury.

ACTION: Notice.

SUMMARY: The Treasury Department's Office of Foreign Assets Control (“OFAC”) is publishing the names of three newly designated individuals whose property and interests in property are blocked pursuant to Executive Order 13441 of August 1, 2007, “Blocking Property of Persons Undermining the Sovereignty of Lebanon or Its Democratic Processes and Institutions.”

DATES: The designation by the Secretary of the Treasury of the three individuals identified in this notice pursuant to Executive Order 13441 is effective on Monday, November 5, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: 202/622-0077.

Background

On August 1, 2007, the President issued Executive Order 13441(the “Order”) pursuant to the International Emergency Economic Powers Act, 50 U.S.C. 1701, et seq., the National Emergencies Act, 50 U.S.C. 1601, et seq., and section 301 of title 3, United States Code. In the Order, the President declared a national emergency to address the threat posed by the actions of certain persons to undermine Lebanon's legitimate and democratically elected government or democratic institutions, to contribute to the deliberate breakdown in the rule of law in Lebanon, including through politically motivated violence and intimidation, to reassert Syrian control or contribute to Syrian interference in Lebanon, or to infringe upon or undermine Lebanese sovereignty.

Section 1 of the Order blocks, with certain exceptions, all property and interests in property that are in the United States, that hereafter come within the United States, or that are or hereafter come within the possession or control of United States persons, including any overseas branch, of the following persons: Persons who are determined by the Secretary of the Treasury, in consultation with the Secretary of State, (1) to have taken, or to pose a significant risk of taking, actions, including acts of violence, that have the purpose or effect of undermining Lebanon's democratic processes or institutions, contributing to the breakdown of the rule of law in Lebanon, supporting the reassertion of Syrian control or otherwise contributing to Syrian interference in Lebanon, or infringing upon or undermining Lebanese sovereignty; (2) to have materially assisted, sponsored, or provided financial, material, or technological support for, or goods or services in support of, such actions, including acts of violence, or any person whose property and interests in property are blocked pursuant to the Order; (3) to be a spouse or dependent child of any person whose property and interests in property are blocked pursuant to the Order; or (4) to be owned or controlled by, or acting or purporting to act for or on behalf of, directly or indirectly, any person whose property or interests in property are blocked pursuant to the Order.

On Monday, November 5, 2007, the Secretary of the Treasury, in consultation with the Secretary of State, designated, pursuant to one or more of the criteria set forth in the Order, three individuals whose property and interests in property are blocked pursuant to Executive Order 13441.

The list of designees is as follows:

1. HARDAN, Assaad Halim (a.k.a. HARDAN, As'ad; a.k.a. HARDAN, Assad); DOB 31 Jul 1951; POB Rashayya al-Fakhar, Lebanon; alt. POB Rashayya al-Fuqhar, Lebanon; alt. POB Rashia al Foukhar, Lebanon.

2. MAKHLUF, Hafiz (a.k.a. MAKHLOUF, Hafez); DOB circa 1975; POB Damascus, Syria; Colonel.

3. WAHHAB, Wi'am (a.k.a. WAHAB, Wiyam; a.k.a. WAHHAB, Wiam; a.k.a. WIHAB, Wi'am; a.k.a. WIHAB, Wiyam); DOB 1964; POB Al-Jahiliya, Shuf Mountains, Lebanon.

Dated: November 14, 2007.
Adam J. Szubin,
Director, Office of Foreign Assets Control.

[FR Doc. E7-22888 Filed 11-21-07; 8:45 am]

BILLING CODE 4811-45-P